FEDERAL HOUSING FINANCE BOARD

[No. 2002-N-2]

Prices for Federal Home Loan Bank Services

AGENCY: Federal Housing Finance Board.

ACTION: Notice of prices for Federal Home Loan Bank services.

SUMMARY: The Federal Housing Finance Board (Finance Board) is publishing the prices charged by the Federal Home Loan Banks (Banks) for processing and settlement of items (negotiable order of withdrawal or NOW), and demand deposit accounting (DDA) and other services offered to members and other eligible institutions.

EFFECTIVE DATE: March 29, 2002.

FOR FURTHER INFORMATION CONTACT: Gwen R. Grogan, Acting Deputy Director, Office of Supervision (202) 408-2892; or Edwin J. Avila, Financial Analyst, (202) 408-2871; Federal Housing Finance Board, 1777 F Street, NW., Washington, DC 20006.

SUPPLEMENTARY INFORMATION: Section 11(e) of the Federal Home Loan Bank Act (Bank Act) (12 U.S.C. 1431(e)) authorizes the Banks to: (1) Accept demand deposits from member institutions; (2) be drawees of payment instruments; (3) engage in collection and settlement of payment instruments drawn on or issued by members and other eligible institutions; and (4) have such incidental powers as are necessary to the exercise of such authority. Section 11(e)(2)(B) of the Bank Act (12 U.S.C. 1431(e)(2)(B)) requires the Banks to make charges for services authorized in that section, which charges are to be determined and regulated by the Finance Board.

Section 975.6(c) of the Finance Board's regulations (12 CFR 975.6(c)) provides for the annual publication in the Federal Register of all prices for Bank services. The following fee schedule is for the only Bank that offers item processing services to its members and other qualified financial institutions. Most of the remaining Banks provide other Correspondence Services, which may include securities safekeeping, disbursements, coin and currency, settlement, electronic funds transfer, etc. However, these Banks do not provide services related to processing of items drawn against or deposited into third party accounts held by their members or other qualified financial institutions.

District 1.—Federal Home Loan Bank of Boston (2002 NOW/DDA Services) (Services not provided)

District 2.—Federal Home Loan Bank of New York (2002 NOW/DDA Services) (Does not provide item processing services for third party accounts)

District 3.—Federal Home Loan Bank of Pittsburgh (2002 NOW/DDA Services) (Does not provide item processing services for third party accounts)

District 4.—Federal Home Loan Bank of Atlanta (2002 NOW/DDA Services) (Does not provide item processing services for third party accounts)

District 5.—Federal Home Loan Bank of Cincinnati (2002 NOW/DDA Services) (Does not provide item processing services for third party accounts)

District 6.—Federal Home Loan Bank of Indianapolis (2002 NOW/DDA Services)

Fee Schedules

Checking Account Processing

I.—Checking Account Service Transaction Charges
[Effective February 1, 2000]
Monthly volume | Safekeeping: Per item | Turnaround (daily or cycled): Per item | Complete: Per item | Full service image*: Per item | Full service image*: Per statement | Limited service image*: Per item | Limited service image*: Per statement
0-5,000 | $.054 | $.0675 | $.0875 | $.06 | $.40 | $.02 | $.40
5-10,000 | .046 | .0625 | .0855 | .06 | .40 | .02 | .40
10-15,000 | .045 | .0585 | .0835 | .06 | .40 | .02 | .40
15-25,000 | .040 | .0515 | .0825 | .06 | .40 | .02 | .40
25-50,000 | .039 | .0475 | .0805 | .06 | .40 | .02 | .40
50-75,000 | .035 | .0445 | .0765 | .06 | .40 | .02 | .40
75-100,000 | .032 | .0415 | .0755 | .06 | .40 | .02 | .40
100,000 and up | .030 | .0385 | .0745 | .06 | .40 | .02 | .40
Note.—Minimum processing fee of $40.00 per month will apply for total NOW services. Also included in the above fees—at no additional cost are Federal Reserve fees, incoming courier fees, software changes, disaster recovery, envelope discount and inventory.
*Image Monthly Maintenance Fee of $500.00 for 0-32% of accounts; $300.00 for 33-49% of accounts; and $200.00 for 50%+ will be assessed for Image Statements.

Monthly volume | Image archive limited service*: Per item | CD image limited service: Per item | CD image limited service: Per CD
0-5,000 | $.0125 | $.0075 | $10.00
5-10,000 | .0125 | .0075 | 10.00
10-15,000 | .0125 | .0075 | 10.00
15-25,000 | .0125 | .0075 | 10.00
25-50,000 | .0125 | .0075 | 10.00
50-75,000 | .0125 | .0075 | 10.00
75-100,000 | .0125 | .0075 | 10.00
100,000 and up | .0125 | .0075 | 10.00
Note.—Minimum processing fee of $40.00 per month will apply for total NOW services. Also included in the above fees—at no additional cost are Federal Reserve fees, incoming courier fees, software changes, disaster recovery, envelope discount and inventory.
*Image Monthly Maintenance Fee of $500.00 for 0-32% of accounts; $300.00 for 33-49% of accounts; and $200.00 for 50%+ will be assessed for Image Statements.

II. Ancillary Service Fees
Large Dollar Signature Verification | $0.75
Over-the-counters and Microfilm | 0.045
Return Items | 2.40
Photocopies** and Facsimiles | 2.50
Certified Checks | 1.00
Invalid Accounts | 0.65
Late Returns | 0.50
Invalid Returns | 0.50
No MICR/OTC | 0.50
Settlement Only | 100.00 per month
+Journal Entries | 3.00 each
Encoding Errors | 2.75
Fine Sort Numeric Sequence | 0.02
High Dollar Return Notification | N/C
Debit Entries | N/C
Credit Entries | N/C
Standard Stmt. Stuffers (up to 2)*** | N/C
Statement Stuffing Savings (Non DDA Accounts) | 0.20
Note. Minimum processing fee of $40.00 per month will apply for total NOW services. Also included in the above fees—at no additional cost are Federal Reserve fees, incoming courier fees, software changes, disaster recovery, envelope discount and inventory.
*Image Monthly Maintenance Fee of $500.00 for 0-32% of accounts; $300.00 for 33-49% of accounts; and $200.00 for 50%+ will be assessed for Image Statements.
**Photocopy request of 50 or more are charged at an hourly rate of $15.00.
***Each additional (over 2) will be charged at $.02 per statement.

b. ACH Fees

Tape transmission | $8.50 per tape.
Or originations | .045 per item.
NACHA, MPX | Actual Federal Reserve charges.
ACH entries clearing through our R&T number | .25 per item.
Settlement only | 65.00 per month.
ACH returns/NOC | 2.50 per item.

Collected balances will earn interest at CMS daily-posted rate.

Prices effective April 1, 1993.

c. Deposit Services

Federal Home Loan Bank of Indianapolis
Pre-encoded Items:
City | $0.045 per item.
RCPC | .055 per item.
Other Districts | .09 per item.
Unencoded | .15 per item.
Food Stamp | .14 per item.
Photocopies* | 2.50 per copy.
Adjustments on pre-encoded work | 2.75 per error.
EZ Clear | .14 per item.
Coupons | 8.25 per envelope.
Collections | 6.00 per item.
Cash Letter | 2.00 per cash letter.
Deposit Adjustments | .30 per adjustment.
Debit Entries | N/C.
Credit Entries | N/C.
Microfilming | N/C.
Mortgage Remittance (Basic Service) | .35.
Settlement only | 100.00 per month.
+Journal Entries | 3.00 each.
Courier (Photocopy request of 50 or more are charged at an hourly rate of $15.00.)
Indianapolis (city): | 8.25 per location, per day, per pickup.
Outside Indianapolis: | prices vary per location.
N/C—No Charge.
*Image Monthly Maintenance Fee of $500.00 for 0-32% of accounts; $300.00 for 33-49% of accounts; and $200.00 for 50%+ will be assessed for Image Statements.

District 7.—Federal Home Loan Bank of Chicago (2002 NOW/DDA Services) (Does not provide item processing services for third party accounts)

District 8.—Federal Home Loan Bank of Des Moines (2002 NOW/DDA Services) (Does not provide item processing services for third party accounts)

District 9.—Federal Home Loan Bank of Dallas (2002 NOW/DDA Services) (Does not provide item processing services for third party accounts)

District 10.—Federal Home Loan Bank of Topeka (2002 NOW/DDA Services) (Does not provide item processing services for third party accounts)

District 11.—Federal Home Loan Bank of San Francisco (2002 NOW/DDA services) (Does not provide item processing services for third party accounts)

District 12.—Federal Home Loan Bank of Seattle (2002 NOW/DDA Services) (Does not provide item processing services for third party accounts)

Dated: March 22, 2002.
By the Federal Housing Finance Board.
James L. Bothwell,
Managing Director.

[FR Doc. 02-7529 Filed 3-28-02; 8:45 am]

BILLING CODE 6725-02-P